DEPARTMENT OF HEALTH AND HUMAN SERVICES

Centers for Disease Control and Prevention

National Center for Injury Prevention and Control Initial Review Group, (NCIPC IRG)

Times and Dates: 12:30 p.m.-7 p.m. (Closed)

Correction: This notice was published in the Federal Register on May 19, 2009, Volume 74, Number 95, Page 23423. The timeframe for the closed portion of the meeting was published incorrectly.

Contact Person For More Information: Rick Waxweiler, Ph.D., Director, Extramural Research Program Office, NCIPC and Executive Secretary, NCIPC IRG, CDC, 4770 Buford Highway, NE., M/S F-62, Atlanta, Georgia 30341, Telephone (770) 488-4850.

The Director, Management Analysis and Services Office has been delegated the authority to sign Federal Register notices pertaining to announcements of meetings and other committee management activities for both CDC and the Agency for Toxic Substances and Disease Registry.

Dated: June 3, 2009.
Lorenzo Falgiano,
Acting Director, Management Analysis and Services Office, Centers for Disease Control and Prevention.

[FR Doc. E9-13554 Filed 6-9-09; 8:45 am]

BILLING CODE 4163-18-P